INTERNATIONAL TRADE COMMISSION

[Inv. No. 337-TA-482]

Certain Compact Disc and DVD Holders; Notice of Commission Issuance of Limited Exclusion Order and Termination of Investigation

AGENCY: International Trade Commission.

ACTION: Notice.

SUMMARY: Notice is hereby given that the U.S. International Trade Commission has issued a limited exclusion order and terminated the above-captioned investigation.

FOR FURTHER INFORMATION CONTACT: Andrea Casson, Esq., Office of the General Counsel, U.S. International Trade Commission, 500 E Street, SW., Washington, DC 20436, telephone (202) 205-3105. Copies of the ALJ's ID and all other nonconfidential documents filed in connection with this investigation are or will be available for inspection during official business hours (8:45 a.m. to 5:15 p.m.) in the Office of the Secretary, U.S. International Trade Commission, 500 E Street, SW., Washington, DC 20436, telephone (202)-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202)-205-1810.

SUPPLEMENTARY INFORMATION: The Commission instituted this investigation on October 22, 2002, based on a complaint filed by DuBois Limited of the United Kingdom (“DuBois”) against eight respondents, including Wah-De Electron Co., Ltd of Taiwan (“Wah-De”) and Dragon Star Magnetics, Inc., of Hong Kong (“Dragon Star”). The complaint alleged violations of section 337 of the Tariff Act of 1930 in the importation, sale for importation, or sale within the United States after importation of certain compact disc and DVD holders by reason of infringement of U.S. Design Patent No. D441,212. On April 16, 2003, the Commission determined not to review an initial determination (Order No. 13) finding the two remaining respondents in this investigation, Wah-De and Dragon Star, in default. All other respondents have been terminated from the investigation on the basis either of settlement agreements or the withdrawal of the allegations in the complaint as to them.

On March 26, 2003, DuBois filed a declaration pursuant to section 337(g)(1) and Commission rule 210.16(c)(1) seeking immediate entry of a limited exclusion order against Wah-De and Dragon Star. On April 22, 2003, the Commission issued a Federal Register notice requesting briefing on the issues of default remedy, the public interest, and bonding. 68 FR 19848. On April 30, 2003 and May 6, 2003, DuBois and the Commission investigative attorney, respectively, filed submissions on the issues of remedy, the public interest, and bonding. No other person or government agency filed a submission.

Section 337(g)(1) of the Tariff Act of 1930 provides that the Commission shall presume the facts alleged in a complaint to be true, and upon request, issue a limited exclusion order if: (1) A complaint is filed against a person under section 337, (2) the complaint and a notice of investigation are served on the person, (3) the person fails to respond to the complaint and notice or otherwise fails to appear to answer the complaint and notice, (4) the person fails to show good cause why it should not be found in default, and (5) the complainant seeks relief limited to that person. Such an exclusion from entry shall be issued unless, after considering the effect of such exclusion or order in light of the statutory public interest factors, the Commission finds that the exclusion order should not be issued.

The Commission found that each of the statutory requirements for the issuance of a limited exclusion order was met with respect to defaulting respondents Wah-De and Dragon Star. The Commission further determined that the public interest factors enumerated in section 337(g)(1) did not preclude the issuance of such relief. Finally, the Commission determined that bond under the limited exclusion order during the Presidential review period shall be in the amount of 100 percent of entered value.

This action is taken under the authority of section 337 of the Tariff Act of 1930, 19 U.S.C. 1337, and § 210.16 of the Commission's Rules of Practice and Procedure, 19 CFR 210.16.

Issued: June 26, 2003.
By order of the Commission.
Marilyn R. Abbott,
Secretary.

[FR Doc. 03-16718 Filed 7-1-03; 8:45 am]

BILLING CODE 7020-02-P